DEPARTMENT OF ENERGY

Federal Energy Regulatory Commission

[ Docket No. CP12-19-000; Docket No. CP12-20-000]

Dominion Transmission Inc.; Notice of Onsite Environmental Review

On December 28, 2011, the Federal Energy Regulatory Commission's (FERC or Commission) Office of Energy Projects staff will be in Tioga and Potter Counties, Pennsylvania and Steuben County, New York to gather data related to the environmental analysis of the Tioga Area Expansion and Sabinsville to Morrisville Projects proposed by Dominion Transmission Inc. (DTI) in the above-referenced dockets. Staff will examine the proposed TL-610 pipeline route and various above-ground facilities where modifications or additions are proposed. Viewing of this area is anticipated to be from public access points and DTI's existing right-of-way. The review is open to the public. All interested parties in attendance must provide their own transportation. Those attending should meet:

Wednesday, December 28, 2011, 9 a.m., at DTI's Sabinville Office—5094 Route 349, Westfield, PA 16950, Local DTI Contact—Debra Annibella—telephone (814) 628-6068.

The review will be cancelled if there is a significant weather event. In case of a snowfall that may result in cancellation, please check the event calendar posted on the Commission's Internet Web page. Information about this onsite environmental review will be posted on the Commission's calendar at: http://www.ferc.gov/EventCalendar/EventsList.aspx?CalendarID=119&Date=12/1/2011&View=listview&DisplayString=Scoping+Meetings+%26+Environmental+Site+Reviews%20-%20December%202011&IsSearch=false.

For additional information, contact the FERC's Office of External Affairs at (866) 208-FERC. Please use the FERC's free eSubscription service to keep track of all formal issuances and submittals in these dockets. This can reduce the amount of time you spend researching proceedings by automatically providing you with notification of these filings, document summaries, and direct links to the documents. To register for this service, go to www.ferc.gov/esubscribenow.htm.

Dated: December 15, 2011.
Kimberly D. Bose,
Secretary.

[FR Doc. 2011-32741 Filed 12-21-11; 8:45 am]

BILLING CODE 6717-01-P